DEPARTMENT OF HEALTH AND HUMAN SERVICES

Administration for Children and Families

Submission for OMB Review; Comment Request

Title: Study of the TANF Application Process.

OMB No.: New Collection.

Description: The Study of the TANF Application Process is designed to provide systematic information about how application policies and processes have changed under TANF, and how States define and count applications and application results. The Study will also explore how application policies are implemented in a sample of local TANF offices and will collect data on individuals' application decisions, experiences, and outcomes. In addition, the Study will also collect information on the availability and quality of State-collected data on the TANF application process. The primary purpose of this Study is to provide useful information to be considered in the upcoming TANF reauthorization process and provide applicant information as required by 42 U.S.C. 611(b)(2).

Respondents: The respondents for the Mail Questionnaire are the 50 States, the District of Columbia, and the U.S. Territories of Guam, Puerto Rico, and the Virgin Islands. Eighteen States will be respondents to the State Telephone Survey, 54 individuals for the Open-ended Interviews for Case Studies, six States for Case Abstractions, and 1200 individuals for the Follow-up Telephone Interviews with Applications and Non-applicants.

Annual Burden Estimates:

Instrument | Number of respondents | Number of responses per respondent | Average burden hours per response | Total burden hours
18-State Telephone Survey | 18 | 1 | 3 | 54
54-State Mail Questionaire | 54 | 1 | 6 | 324
Open-ended interview for Case Studies | 54 | 1 | 1.5 | 81
Follow-up Telephone Interview with Applicants and Non-applicants | 1200 | 1 | .33 | 396
Case abstractions-pulling case files for contractor review and abstraction | 6 | 1 | 20 | 120
Estimated Total Annual Burden Hours |  |  |  | 975

Additional Information: Copies of the proposed collection may be obtained by writing to The Administration for Children and Families, Office of Information Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: May 22, 2001.
Bob Sargis,
Reports Clearance Officer.

[FR Doc. 01-13318 Filed 5-25-01; 8:45 am]

BILLING CODE 4184-01-M